DEPARTMENT OF DEFENSE

Office of the Secretary

32 CFR Part 183

[DOD-2009-OS-0039; RIN 0790-AI55]

Defense Support to Special Events

AGENCY: Department of Defense.

ACTION: Final rule.

SUMMARY: This rule establishes procedures and assigns responsibilities for Special Events, sets forth procedural guidance for the execution of Special Events support when requested by civil authorities or qualifying entities and approved by the appropriate DoD authority, or as directed by the President, within the United States, including the District of Columbia, the Commonwealth of Puerto Rico, the U.S. Virgin Islands, Guam, American Samoa, the Commonwealth of the Northern Mariana Islands, and any other territory or possession of the United States or any political subdivision thereof and elsewhere if properly approved.

DATES: This rule is effective May 17, 2012.

FOR FURTHER INFORMATION CONTACT: Ms. Carol Corbin, 571-256-8319.

SUPPLEMENTARY INFORMATION: The Department of Defense published a proposed rule on November 26, 2010 (75 FR 72767-72771). One comment was received and addressed below:

Comment: “This comment pertains to Page 72770, Section A(iiii)G reference to DOD support to the “National Boy Scout Jamboree”. Recommend that DOD not support this event. The Boy Scouts of America are an organization that discriminates based on sex, sexual orientation, and religion. DOD support is contrary to policies of state governments and the federal government. Material support is against the general principle of separation of church and state and the important elements of the constitution of the United States. DOD support essentially demonstrates an “establishment of religion” and is contrary to anti-discrimination policys [sic].”

Response: The Department of Defense has valid statutory authority, 10 U.S.C. 2554, for providing support to the Boy Scout jamboree.

Executive Order 12866, “Regulatory Planning and Review” and Executive Order 13563, “Improving Regulation and Regulatory Review”

It has been certified that 32 CFR Part 183 does not:

(1) Have an annual effect on the economy of $100 million or more or adversely affect in a material way the economy, a section of the economy, productivity, competition, jobs, the environment, public health or safety, or State, local, or tribal governments or communities;

(2) Create a serious inconsistency or otherwise interfere with an action taken or planned by another agency;

(3) Materially alter the budgetary impact of entitlements, grants, user fees, or loan programs, or the rights and obligations of recipients thereof; or

(4) Raise novel legal or policy issues arising out of legal mandates, the President's priorities, or the principles set forth in these Executive Orders.

Sec. 202, Pub. L. 104-4, “Unfunded Mandates Reform Act”

It has been certified that 32 CFR part 183 does not contain a Federal mandate that may result in the expenditure by State, local, and tribal governments, in aggregate, or by the private sector, of $100 million or more in any one year.

Public Law 96-354, “Regulatory Flexibility Act” (5 U.S.C. 601 et seq.)

It has been certified that 32 CFR part 183 is not subject to the Regulatory Flexibility Act (5 U.S.C. 601 et seq.) because it would not, if promulgated, have a significant economic impact on a substantial number of small entities. This rule establishes procedures and assigns responsibilities within DoD for Special Events in support of civil and non-governmental entities; therefore, it is not expected that small entities will be affected because there will be no economically significant regulatory requirements placed upon them.

Public Law 96-511, “Paperwork Reduction Act” (44 U.S.C. Chapter 35)

It has been certified that 32 CFR part 183 does not impose reporting or recordkeeping requirements under the Paperwork Reduction Act of 1995.

Executive Order 13132, “Federalism”

It has been certified that 32 CFR part 183 does not have federalism implications, as set forth in Executive Order 13132. This rule does not have substantial direct effects on:

(1) The States;

(2) The relationship between the national government and the States; or

(3) The distribution of power and responsibilities among the various levels of government.

List of Subjects in 32 CFR Part 183

Armed forces, Special events.

Accordingly, 32 CFR part 183 is added to subchapter I to read as follows:

PART 183—DEFENSE SUPPORT OF SPECIAL EVENTS

Sec.
183.1 Purpose.
183.2 Applicability and scope.
183.3 Definitions.
183.4 Policy.
183.5 Responsibilities.
183.6 Procedures.

Authority: 2 U.S.C. 1966, 2 U.S.C. 1970, 10 U.S.C. 372-374, 10 U.S.C. 377, 10 U.S.C. 2012, 10 U.S.C. 2553-2555, 10 U.S.C. 2564, 18 U.S.C. 1385, 18 U.S.C. 3056, 31 U.S.C. 1535-1536, 32 U.S.C. 502, 32 U.S.C. 508, Pub. L. 94-524, and Section 5802 of Pub. L. 104-208, as amended.

§ 183.1. Purpose.

This part:

(a) Establishes DoD policy, assigns responsibilities, and provides procedures for support of civil authorities and qualifying entities during the conduct of special events in accordance with the authority in DoD Directive (DoDD) 5111.1 (see http://www.dtic.mil/whs/directives/corres/pdf/511101p.pdf) and the Deputy Secretary of Defense Memorandum, “Delegations of Authority,” November 30, 2006 (available by written request to Deputy Secretary of Defense, 1010 Defense Pentagon, Washington, DC 20301-1010). This support will be referred to as “support of special events.”

(b) Implements provisions of DoDD 5111.1; the Deputy Secretary of Defense Memorandum, “Delegations of Authority,” November 30, 2006; title 2, United States Code (U.S.C.), sections 1966 and 1970; title 10, U.S.C., sections 372-374, 377, 2012, 2553-2555, and 2564; title 18, U.S.C. sections 1385 and 3056; title 31, U.S.C., sections 1535-1536; title 32, U.S.C., sections 502 and 508; Public Law 94-524; Section 5802 of Public Law 104-208, as amended; and title 32, Code of Federal Regulations (CFR) part 185, addressing matters pertaining to Defense Support of Civil Authorities (DSCA) for special events, including support for qualifying entities.

§ 183.2. Applicability and scope.

(a) Applies to the Office of the Secretary of Defense (OSD), the Military Departments, the Office of the Chairman of the Joint Chiefs of Staff (CJCS) and the Joint Staff, the Combatant Commands, the Office of the Inspector General of the Department of Defense, the Defense Agencies, the DoD Field Activities, National Guard personnel providing support of special events in title 32, U.S.C., status, and all other organizational entities in DoD (hereinafter referred to collectively as the “DoD Components”).

(b) Does not apply to installation commanders or Heads of DoD Components providing localized support to a special event solely under the auspices of community relations, public outreach, or recruitment efforts pursuant to DoDD 5410.18 (see http://www.dtic.mil/whs/directives/corres/pdf/541018p.pdf) and DoD Instruction (DoDI) 5410.19 (see http://www.dtic.mil/whs/directives/corres/pdf/541019p.pdf) or other similar authority.

§ 183.3. Definitions.

Unless otherwise noted, these terms and definitions are for the purpose of this part only.

Civil Authorities. Defined in Joint Publication 1-02 (see http://www.dtic.mil/doctrine/new_pubs/jp1_02.pdf.)

Integrated Federal Support Overview (IFSO). A collaborative effort of the Special Events Working Group. The purpose of the IFSO is to inform the Secretary of Homeland Security and other appropriate senior Federal officials, including the Federal coordinator for the special event, of all the Federal activities and support in preparation for and execution of a special event. The IFSO facilitates the Federal coordinator's ability to lead a unified coordination group initially in case of an incident to support the Secretary of Homeland Security's incident management responsibilities. It also educates Federal interagency partners on Federal resources committed to the special event.

National Special Security Event (NSSE). An event of national significance as determined by the Secretary of Homeland Security. These national or international events, occurrences, contests, activities, or meetings, which, by virtue of their profile or status, represent a significant target, and therefore warrant additional preparation, planning, and mitigation efforts. The USSS, FBI, and FEMA are the Federal agencies with lead responsibilities for NSSEs; other Federal agencies, including DoD, may provide support to the NSSE if authorized by law.

NSSE Executive Steering Committee. Established when the Secretary of Homeland Security designates a specific event to be an NSSE. The group, led by the USSS, comprises Federal, State, and local public safety and security officials whose primary responsibility is to coordinate and develop a specific security plan for the designated NSSE.

Qualifying entity. A non-governmental organization to which the Department of Defense may provide assistance by virtue of statute, regulation, policy, or other approval by the Secretary of Defense or his or her authorized designee.

Special event. An international or domestic event, contest, activity, or meeting, which by its very nature, or by specific statutory or regulatory authority, may warrant security, safety, and other logistical support or assistance from the Department of Defense. Event status is not determined by the Department of Defense, and support may be requested by either civil authorities or non-governmental entities. Support provided may be reimbursable.

Special Event Working Group. A single forum designed to ensure comprehensive and coordinated Federal interagency awareness of, and appropriate support to, special events. The Special Event Working Group is co-chaired by representatives from DHS (including the USSS and FEMA) and the FBI, and comprises representatives from more than 40 Federal departments and agencies, including the Department of Defense, the Departments of Homeland Security, Justice, State, Energy, Labor, Health and Human Services, and Commerce, the Office of the Director of National Intelligence, and the Environmental Protection Agency. The Department of Defense representative on the Special Event Working Group is designated by the Assistant Secretary of Defense for Homeland Defense and Americas' Security Affairs (ASD(HD&ASA)).

§ 183.4. Policy.

It is DoD policy that:

(a) DoD capabilities may be used to provide support for international and domestic special events as authorized by law and DoD policy. DoD resources in support of special events may be provided only after the resources of all other relevant governmental and non-governmental entities are determined not to be available, unless there is a statutory exception or the Department of Defense is the only source of specialized capabilities. DoD support should not be provided if use of commercial enterprises would be more appropriate.

(b) DoD Components shall provide support to civil authorities or qualifying entities for special events only as authorized in this part.

(c) The Department of Defense may support such events with personnel, equipment, and services in accordance with applicable laws, regulations, and interagency agreements. Most support shall be provided on a non-interference basis, with careful consideration given to effects on readiness and current operations. Support for National Special Security Events (NSSEs) shall be in accordance with National Security Presidential Directive-46/Homeland Security Presidential Directive-15, Annex II.

(d) DoD security and safety-related support for an event shall have priority over logistics assistance. However, logistics assistance may be provided if deemed appropriate and necessary, consistent with applicable statutes and policy guidance.

(e) Funding for special events is subject to the following:

(1) The Department of Defense may receive separate funding or authority to provide support to specific special events.

(2) Support of special events for which the Department of Defense does not receive appropriations or for which DoD funds are not available for such support must be approved by the Secretary of Defense and must be provided on a reimbursable basis in accordance with title 10, U.S.C., sections 377, 2553-2555, and 2564; title 31, U.S.C., sections 1535-1536; or other applicable statutes.

(3) Reimbursement for DoD support provided to civilian law enforcement agencies during special events is required, in accordance with title 10 U.S.C. 377, unless the Secretary of Defense elects to waive reimbursement after determining that the support:

(i) Is provided in the normal course of military training or operations; or

(ii) Results in a benefit to the personnel providing the support that is substantially equivalent to that which would otherwise be obtained from military operations or training.

(4) The DoD will provide support to NSSEs in accordance with HSPD 15/NSPD 46, as authorized by law and policy.

(5) Security and safety of special events are responsibilities shared by Federal, State, and local authorities. If Federal funds will be provided to State or local authorities to offset the costs of enhanced security and public safety for special events and if State or local officials request the employment of National Guard personnel in a Federal pay status, States shall be encouraged to use those funds to employ those National Guard personnel in a State pay status or to reimburse the Department of Defense for costs related to the employment of the National Guard personnel in a Federal pay status.

(f) DoD support of special events that includes support to civilian law enforcement officials must comply with DoDD 5525.5 (see http://www.dtic.mil/whs/directives/corres/pdf/552505p.pdf).

(g) DoD support of special events that includes support to civilian intelligence officials must comply with DoD 5240.1-R (see http://www.dtic.mil/whs/directives/corres/pdf/524001r.pdf).

§ 183.5. Responsibilities.

(a) The Under Secretary of Defense for Policy (USD(P)) shall establish policy for and facilitate the interagency coordination of special events with Federal, State, and local agencies, and qualifying entities and the DoD Components, as required.

(b) The ASD(HD&ASA), under the authority, direction, and control of the USD(P), shall:

(1) In coordination with the CJCS, oversee the management and coordination of DoD support of special events including events covered under title 10, U.S.C., section 2564.

(2) Serve as the principal civilian advisor to the Secretary of Defense and the USD(P) on DoD support of special events.

(3) In accordance with DoDD 5111.13 (see http://www.dtic.mil/whs/directives/corres/pdf/511113p.pdf), approve requests for assistance from civil authorities and qualifying entities for DoD support of special events. Such requests shall be coordinated with appropriate offices within OSD, with the CJCS, and with the heads of appropriate DoD Components. The ASD(HD&ASA) will immediately notify the Secretary of Defense and the USD(P) when this authority is exercised.

(4) Coordinate, or consult on, special event support policy with other Federal departments and agencies (which may include the Department of Homeland Security (DHS), the Federal Bureau of Investigation (FBI), the U.S. Secret Service (USSS), and the Federal Emergency Management Agency (FEMA)) and with other qualifying entities as appropriate.

(5) Develop, coordinate, and oversee the implementation of DoD support of special events.

(6) Through the CJCS, monitor the activation, deployment, and employment of DoD personnel, facilities, and other resources involved in DoD support of special events.

(7) Coordinate DoD support of special events with the General Counsel of the Department of Defense (GC, DoD) and the Under Secretary of Defense (Comptroller)/Chief Financial Officer, Department of Defense (USD(C)/CFO).

(8) Coordinate with the Assistant Secretary of Defense for Public Affairs (ASD(PA)) to ensure that information relating to DoD support of special events receives appropriate dissemination using all approved media.

(9) Represent the Department of Defense regarding special events to other Federal departments and agencies, State and local authorities, and qualifying entities, including designating the Department of Defense representatives for the working groups identified in § 183.6(b) of this part.

(10) Manage, in conjunction with the USD(C)/CFO, the Support for International Sporting Competitions (SISC) Defense Account.

(11) In accordance with section 5802 of Public Law 104-208, as amended, notify the congressional defense committees of DoD plans to obligate funds in the SISC Defense Account.

(12) In accordance with title 10 U.S.C. 2564, submit an annual report to Congress, no later than January 30 of each year following a year in which the Department of Defense provides assistance under title 10 U.S.C. 2564, detailing DoD support to certain sporting competitions.

(c) The Under Secretary of Defense for Personnel and Readiness (USD(P&R)) shall coordinate on DoD support of special events and, in coordination with the CJCS, provide advice regarding the effect the requested support will have on readiness and military operations.

(d) The USD(C)/CFO shall:

(1) Coordinate on DoD support of special events, and provide advice regarding the effect on the DoD budget and on DoD financial resources.

(2) Maintain the SISC Defense Account in conjunction with the ASD(HD&ASA).

(e) The Under Secretary of Defense for Acquisition, Technology, and Logistics (USD(AT&L)) shall coordinate on DoD logistical support of special events.

(f) The GC, DoD shall coordinate and provide legal counsel on DoD support of special events.

(g) The ASD(PA) shall provide policy guidance and review, coordinate, and approve requests for ceremonial and entertainment support for special events covered by this part, in accordance with DoDD 5410.18 (see http://www.dtic.mil/whs/directives/corres/pdf/541018p.pdf), DoDI 5410.19 (see http://www.dtic.mil/whs/directives/corres/pdf/541019p.pdf) and DoDD 5122.05 (see http://www.dtic.mil/whs/directives/corres/pdf/512205p.pdf).

(h) The Heads of the DoD Components shall:

(1) Designate and maintain an office of primary responsibility (OPR) for special events or a special events coordinator, and provide that OPR designation and contact information to the CJCS within 60 days of the publication of this part. Changes to OPR designation and contact information shall be provided to the CJCS within 30 days of the change.

(2) Provide personnel, equipment, and support of special events as directed.

(3) Ensure that personnel supporting special events comply with applicable antiterrorism and force protection training and standards.

(4) Provide other support of special events as directed.

(i) The CJCS shall:

(1) Provide planning guidance to DoD Components for all special events for which DoD support may require the employment of military forces or centralized command and control.

(2) Review all requests for DoD support of special events and, in coordination with the USD(P&R), provide advice on the effect that the requested support will have on readiness and military operations.

(3) Prepare, staff, and issue orders and messages on DoD support of special events that has been approved by authorized DoD officials.

(4) Issue guidance to the Combatant Commanders on the implementation of this part.

(5) Process requests for DoD support of special events.

(6) Maintain sufficient staff to manage the day-to-day operational aspects of DoD support of special events.

(7) Manage and maintain equipment that is procured to support DoD special events.

(i) Establish and operate a system for delivering DoD assets to authorized recipients and for recovering loaned assets at the conclusion of the event.

(ii) Ensure the civil authorities and qualifying entities authorized to accept DoD assets provide a surety bond or other suitable insurance protection to cover the cost of lost, stolen, or damaged DoD property.

(iii) Plan and program for the life-cycle replacement of special events equipment procured under title 10 U.S.C. 2553, 2554, and 2564.

(iv) Procure goods and services through contracting, when necessary and authorized by law.

(8) Administer the expenditure of appropriated funds, and ensure that the Department of Defense is reimbursed for its support of special events when required by law or DoD policy.

(i) With the assistance of the DoD Components, provide cost estimates of DoD support to a special event that is under consideration for approval.

(ii) Upon approval, administer the execution of funding for DoD support of special events.

(iii) At the conclusion of DoD support to a special event, collect and provide a financial accounting for all DoD funds expended in support of that special event.

(9) Establish and maintain effective liaison with DoD Components for the timely exchange of information about special event projects.

(10) Provide other support of special events as directed.

(j) The Chief, National Guard Bureau (NGB), under the authority, direction, and control of the Secretary of Defense through the Secretary of the Army and the Secretary of the Air Force, shall:

(1) Serve as the channel of communications for all matters pertaining to the National Guard between DoD Components and the States in accordance with DoDD 5105.77 (see http://www.dtic.mil/whs/directives/corres/pdf/510577p.pdf).

(2) Report National Guard special event support of civil authorities or qualifying entities when using Federal resources, equipment, or funding to the National Joint Operations and Intelligence Center.

(3) Serve as an advisor to the Combatant Commanders on National Guard matters pertaining to the combatant command missions, and support planning and coordination for DoD support of special events as requested by the CJCS or the Combatant Commanders.

(4) Ensure that National Guard appropriations are appropriately reimbursed for special event activities.

(5) Advocate for needed special event capabilities.

(6) Develop, in accordance with DoDD 5105.77 and in coordination with the Secretaries of the Army and Air Force and the ASD(HD&ASA), guidance regarding this part as it relates to National Guard matters.

§ 183.6. Procedures.

(a) General Provisions. (1) This section provides the basic procedures for DoD support to special events.

(2) As appropriate, amplifying procedures regarding DoD support to special events shall be published separately and maintained by the Office of the ASD(HD&ASA) and released as needed in the most effective medium consistent with DoD Directive 8320.02 (see http://www.dtic.mil/whs/directives/corres/pdf/832002p.pdf).

(b) Special Event Process. (1) Engagement. (i) Engagement may be initiated by the Department of Defense, civil authorities, or qualifying entities. If the initial engagement is not a written request for assistance (RFA), representatives of the ASD(HD&ASA) and the Joint Staff will confer to determine actual requirements.

(ii) Engagement may involve informational briefings and meetings between DoD representatives and special event organizers, civil authorities, or qualifying entities. These informal engagements may result in non-DoD entities submitting an RFA to the DoD Executive Secretary, requesting DoD support for a special event.

(iii) Once an RFA is received, it will be sent to the ASD(HD&ASA) and the CJCS simultaneously for staffing and recommendation. Additional engagement with the requestor may be required to quantify the scope and magnitude of the support requested.

(2) Planning. (i) The direction and focus of DoD special-event planning will depend on the nature of the event and scope and magnitude of the support requested or anticipated. International events may require additional planning, procedures, and coordination with the government of the host country.

(ii) For National Special Security Events (NSSEs) and events that may require the employment of military forces and centralized command and control, the CJCS will issue a planning order requesting a Combatant Commander to initiate planning and notify potential supporting commands or organizations and the Chief, NGB, as appropriate. When possible, established CJCS-directed planning procedures will be used for the Combatant Commander to provide an assessment and request for forces.

(A) The NSSE designation process generally is initiated by a formal written request to the Secretary of Homeland Security by the State or local government hosting the event. In other situations where the event is federally sponsored, an appropriate Federal official will make the request.

(B) Once the request is received by DHS, the USSS and the FBI will send an NSSE questionnaire to the responsible host official for completion. The request, completed questionnaires, and other supporting information are reviewed by the NSSE Working Group (which includes a non-voting DoD member), which provides a recommendation to the Secretary of Homeland Security regarding NSSE designation.

(C) The Secretary of Homeland Security makes the final determination to designate an event as an NSSE pursuant to Homeland Security Presidential Directive 7 (see http://www.gpo.gov/fdsys/pkg/PPP-2003-book2/pdf/PPP-2003-book2-doc-pg1739.pdf).

(iii) There are numerous events where DoD support should be anticipated and a planning order issued to the appropriate Combatant Commander. These include, but are not limited to:

(A) The President's State of the Union Address or other addresses to a Joint Session of Congress.

(B) Annual meetings of the United Nations General Assembly.

(C) National Presidential nominating conventions.

(D) Presidential inaugural activities.

(E) International summits or meetings.

(F) State funerals.

(G) The National Boy Scout Jamboree.

(H) Certain international or domestic sporting competitions.

(iv) There are other events that the Department of Defense supports that do not involve the assignment of military forces or centralized command and control by Combatant Commanders, which include planning requirements by the host organizations. These include, but are not limited to:

(A) Military Department or Service-sponsored events, such as:

(1) The Marine Corps Marathon.

(2) The Army 10-Miler.

(3) Navy Fleet Weeks.

(4) Installation or Joint Service Open Houses.

(5) Service or Joint Air Shows.

(B) Community relations activities authorized in accordance with DoDI 5410.19.

(v) The Department of Defense may provide support to certain sporting events that are included under subsection (c) of section 2564 of title 10, U.S.C., by providing technical, contracting, and specialized equipment support. These events may be funded by the SISC Defense Account pursuant to title 10 U.S.C. 2564 and include:

(A) The Special Olympics.

(B) The Paralympics.

(C) Sporting events sanctioned by the United States Olympic Committee (USOC) through the Paralympic Military Program.

(D) Other international or domestic Paralympic sporting events that are held in the United States or its territories, governed by the International Paralympic Committee, and sanctioned by the USOC:

(1) For which participation exceeds 100 amateur athletes.

(2) In which at least 10 percent of the athletes participating in the sporting event are either members or former members of U.S. Military Services who are participating in the sporting event based upon an injury or wound incurred in the line of duty or veterans who are participating in the sporting event based upon a service-connected disability.

(vi) Planning for DoD support to the Olympics and certain other sporting events requires additional considerations.

(A) Subsections (a) and (b) of section 2564 of title 10, U.S.C., authorize the Secretary of Defense to provide assistance for the Olympics and certain other sporting events. Unless the event meets the specific requirements stated in paragraph (b)(2)(v) of this section, the Attorney General must certify that DoD security and safety assistance is necessary to meet essential security and safety needs of the event.

(B) The Department of Defense, led by the ASD(HD&ASA), will collaborate with the CJCS, the Department of Justice, including the FBI, and other appropriate DoD Components and Federal departments or agencies, usually as part of a Joint Advisory Committee (JAC), to provide a recommendation to the Attorney General on what categories of support the Department of Defense may be able to provide to meet essential security and safety needs of the event.

(C) Support other than safety and security may be authorized for sporting events, but only to the extent that:

(1) Such needs cannot reasonably be met by a source other than the Department of Defense.

(2) Such assistance does not adversely affect military preparedness.

(3) The requestor of such assistance agrees to reimburse the Department of Defense, in accordance with the provisions of title 10 U.S.C. 377, 2553-2555, and 2564; title 31 U.S.C. 1535-1536; and other applicable provisions of law.

(vii) Types of support that the Department of Defense can provide include, but are not limited to:

(A) Aviation.

(B) Communications (e.g., radios, mobile telephones, signal integrators).

(C) Security (e.g., magnetometers, closed-circuit televisions, perimeter alarm systems, undercarriage inspection devices).

(D) Operations and Command Centers (e.g., design and configuration, video walls).

(E) Explosive ordnance detection and disposal (technical advice, explosive ordnance disposal teams, explosive detector dog, dog teams).

(F) Logistics (transportation, temporary facilities, food, lodging).

(G) Ceremonial support (in coordination with the ASD(PA)).

(H) Chemical, biological, radiological, and nuclear threat identification, reduction, and response capabilities.

(I) Incident response capabilities (in coordination with the Department of Justice, DHS, the Department of Health and Human Services, and in consultation with appropriate State and local authorities).

(viii) DoD personnel support of special events is provided using a total force sourcing solution that may include Active Duty and Reserve Component military personnel, DoD civilian personnel, and DoD contractor personnel. The Department of Defense also may decide to respond to requests for assistance by approving, with the consent of the Governor(s) concerned, National Guard forces performing duty pursuant to title 32 U.S.C. 502.

(A) National Guard personnel conducting support of special events while on State active duty, at the direction of their Governor or Adjutant General, are not considered to be providing DoD support of special events.

(B) This part does not limit or affect Department of Defense and National Guard personnel volunteering to support special events during their non-duty time. This volunteer support is not considered as part of DoD support of special events. Volunteers are prohibited from obligating or using DoD resources to support a special event while in a volunteer status except as authorized by separate statute or authority.

(3) Coordination. (i) Coordination of DoD support of special events will likely take place simultaneously with engagement and planning; operate across the full spectrum of strategic, operational, and tactical levels; and occur internally among DoD Components and externally with supported civil authorities and qualifying entities.

(A) Policy coordination at the departmental level between the Department of Defense and other Federal departments or agencies is the responsibility of the ASD(HD&ASA). Other DoD Components may send representatives to these meetings with the prior concurrence of the ASD(HD&ASA). Standing departmental-level special events coordination meetings include:

(1) USSS-led NSSE Working Group.

(2) DHS-led Special Events Working Group.

(3) Department of State, Bureau of Diplomatic Security-led International Sporting Event Group.

(B) Coordination within the Department of Defense is led by the ASD(HD&ASA) and is facilitated by the CJCS for the Combatant Commands and other joint commands and by other DoD Component Heads for their constituent elements.

(C) The CJCS will work with the Military Service Chiefs, the Chief of the National Guard Bureau, and the Heads of DoD Components when subject matter expertise is needed for the event organizers. This will be based upon location and other criteria, as needed.

(ii) Inputs to the DHS-produced Integrated Federal Support Overview (IFSO) will be solicited by the CJCS and sent to the ASD(HD&ASA) for consolidation and deconfliction prior to final submission to DHS. DoD Component Heads not tasked by the Joint Staff will submit their input directly to the ASD(HD&ASA).

(iii) RFAs for DoD support will adhere to the following:

(A) An RFA for DoD support to a special event may be made by Federal, State, or local civil authorities, or by qualifying entities.

(B) RFAs will be in writing and addressed to the Secretary of Defense, the Deputy Secretary of Defense, or the DoD Executive Secretary, 1000 Defense, Pentagon, Washington, DC 20301-1000. DoD Components who receive RFAs directly from the requestor will immediately forward them to the DoD Executive Secretary for disposition, distribution, and tracking.

(C) At a minimum, the RFA will be distributed to the ASD(HD&ASA) and the CJCS for staffing and recommendation. If the RFA is for a single capability for which a DoD Component is the OPR or serves as a DoD Executive Agent, the RFA is sent to that Component for action with an information copy provided to the ASD(HD&ASA) and the CJCS.

(D) Vetting of RFAs will be in accordance with the DoD Global Force Management process and consistent with criteria published in DoD 8260.03-M, Volume 2 (see http://www.dtic.mil/whs/directives/corres/pdf/826003m_vol2.pdf).

(E) Heads of DoD Components will consult with the DoD Executive Secretary on which DoD official will communicate DoD special event support decisions to the requesting authorities.

(4) Execution. Execution of DoD support of special events is a shared responsibility. The scope and magnitude of the support being provided will determine the OPR and level of execution.

(i) When joint military forces or centralized command and control of DoD support to a special event are anticipated or required, a Combatant Commander may be identified as the supported commander in a properly approved order issued by the CJCS. The designated Combatant Command shall be the focal point for execution of DoD support to that special event with other DoD Components in support. Reporting requirements shall be in accordance with the properly approved order issued by the CJCS and standing business practices.

(ii) When there are no joint military forces required and there is no need for centralized command and control, DoD support of special events shall be executed by the CJCS or the Head of a DoD Component, as designated in a properly approved order or message issued by the CJCS. Oversight of DoD support will be provided by the ASD(HD&ASA).

(iii) As described in the Joint Action Plan for Developing Unity of Effort, when Federal military forces and State military forces are employed simultaneously in support of civil authorities in the United States, appointment of a dual-status commander is the usual and customary command and control arrangement. Appointment of a dual-status commander requires action by the President and the appropriate Governor (or their designees).

(5) Recovery. (i) Durable, non-unit equipment procured by the Department of Defense to support a special event shall be retained by the CJCS for use during future events in accordance with § 183.5(i)(7) of this part.

(ii) An after-action report shall be produced by the Combatant Command or OPR and sent to the ASD(HD&ASA) and the CJCS within 60 days of completion of the event.

Dated: April 6, 2012.
Patricia L. Toppings,
OSD Federal Register Liaison Officer, Department of Defense.

[FR Doc. 2012-9148 Filed 4-16-12; 8:45 am]

BILLING CODE 5001-06-P